DEPARTMENT OF HEALTH AND HUMAN SERVICES

Administration for Children and Families

[CFDA Number 93.674]

Announcement of the Award of a Single-Source Program Expansion Supplement Grant to the University of Oklahoma in Tulsa, OK

AGENCY: Children's Bureau, Administration on Children, Youth and Families, Administration for Children and Families, Health and Human Services.

ACTION: Announcement of the award of a single-source program expansion supplement grant to the University of Oklahoma, National Resource Center for Youth Development, in Tulsa, OK, to provide technical assistance to States to devise effective procedures and strategies to implement National Youth in Transition Database regulations effectively.

SUMMARY: The Administration for Children and Families (ACF), Children's Bureau (CB) announces the award of a single-source program expansion supplement in the amount of $103,685 to the University of Oklahoma, National Resource Center for Youth Development, Tulsa, OK, to support expanded technical assistance to address emerging technical assistance needs for States and Tribes as they seek to implement legislation and changing programs dedicated to former foster youth. The grantee is the recipient of a cooperative agreement to administer the National Resource Center for Youth Development (NRCYD). The grantee has been providing technical assistance services through a cooperative agreement since September 30, 2009, pursuant to the legislative authority of the Promoting Safe and Stable Families Program, Section 436(d), Title IV-B, subpart 2, of the Social Security Act (42 U.S.C. 629e).

DATES: September 30, 2012 through September 29, 2013.

FOR FURTHER INFORMATION CONTACT: Jan Shafer, Children's Bureau, 1250 Maryland Avenue SW., Washington, DC 20024. Telephone: 202-205-8172; Email: jan.shafer@acf.hhs.gov.

SUPPLEMENTARY INFORMATION: In February 2008, the National Youth in Transition Database (NYTD) final regulation was promulgated. NYTD requires States to begin collecting information from youth in foster care and young adults formerly in foster care every six months, beginning October 1, 2010. State representatives continue to identify implementation of NYTD as a significant challenge, particularly since it will require State agencies to remain in contact with youth who may no longer be receiving services from the agency. The implementation of NYTD will require the NRCYD to continue to provide additional technical assistance to States to implement this regulation effectively.

Additionally, many States see the implementation of NYTD as a method to engage youth and to strengthen youth involvement in services at the State and local level. This type of youth engagement work involves long-term systemic technical assistance. The single-source expansion supplement will allow the NRCYD to support these State initiatives over the long term.

Another significant development affecting the provision of services to youth and young adults was the passage of the Fostering Connections to Success and Increasing Adoptions Act of 2008, Public Law 110-351, signed into law October 7, 2008. Among other provisions, the law requires States to develop a transition plan for all youth emancipating from foster care and provides States and Tribes an option to receive Federal reimbursement under title IV-E of the Social Security Act to extend foster care to older youth until age 21. In addition, the law for the first time provided an opportunity for certain Tribes to receive direct funding for independent living services and education and training vouchers under the Chafee Foster Care Independence Program. The single-source program expansion supplement grant will allow the NRCYD to provide more intensive technical assistance and on-site consultation to States and Tribes to continue to assist them in implementing these provisions.

The supplemental funding will afford the National Resource Center for Youth Development the opportunity to provide new or modified technical assistance to assist States and Tribes in implementing the Administration on Children, Youth and Families' well-being framework in the context of the new requirements of the Child and Family Services Improvement and Innovation Act (Pub. L. 112-34).

Statutory Authority: Promoting Safe and Stable Families Program, § 436(d), Title IV-B, subpart 2, of the Social Security Act (42 U.S.C. 629e).

Bryan Samuels,
Commissioner, Administration on Children, Youth and Families.

[FR Doc. 2012-26304 Filed 10-24-12; 8:45 am]

BILLING CODE 4184-01-P